DEPARTMENT OF COMMERCE

National Oceanic and Atmospheric Administration

RIN 0648-XB159

Marine Mammals; File No. 17217

AGENCY: National Marine Fisheries Service (NMFS), National Oceanic and Atmospheric Administration (NOAA), Commerce.

ACTION: Notice; issuance of permit.

SUMMARY: Notice is hereby given that Saint Louis Zoo, 1 Government Drive, St. Louis, MO 63110, has been issued a permit to import four harbor seals (Phoca vitulina) for public display.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, Florida 33701; phone (727) 824-5312; fax (727) 824-5309.

FOR FURTHER INFORMATION CONTACT: Jennifer Skidmore or Colette Cairns, (301) 427-8401.

SUPPLEMENTARY INFORMATION: On April 16, 2012, notice was published in the Federal Register (77 FR 22563) that a request for a public display permit, had been submitted by the above-named organization to import four harbor seals from Storybrook Gardens in Ontario, Canada for purposes of public display at the St. Louis Zoo. The requested permit has been granted under the authority of the Marine Mammal Protection Act of 1972, as amended (16 U.S.C. 1361 et seq.) and the regulations governing the taking and importing of marine mammals (50 CFR part 216).

In compliance with the National Environmental Policy Act of 1969 (42 U.S.C. 4321 et seq.), a final determination has been made that the activity proposed is categorically excluded from the requirement to prepare an environmental assessment or environmental impact statement.

Dated: May 30, 2012.
Tammy C. Adams,
Acting Chief, Permits and Conservation Division, Office of Protected Resources, National Marine Fisheries Service.

[FR Doc. 2012-13726 Filed 6-5-12; 8:45 am]

BILLING CODE 3510-22-P